DEPARTMENT OF ENERGY

Federal Energy Regulatory Commission

Combined Notice of Filings #1

Take notice that the Commission received the following electric rate filings:

Docket Numbers: ER26-634-000.

Applicants: Morongo Transmission LLC.

Description: Response to 01/23/2026, Deficiency Letter of Morongo Transmission LLC.

Filed Date: 2/23/26.

Accession Number: 20260223-5196.

Comment Date: 5 p.m. ET 3/16/26.

Docket Numbers: ER26-1400-001.

Applicants: PJM Interconnection, L.L.C.

Description: Tariff Amendment: Amendment to SA No. 7870, Project Identifier No. AG1-118 to be effective 4/15/2026.

Filed Date: 2/24/26.

Accession Number: 20260224-5186.

Comment Date: 5 p.m. ET 3/17/26.

Docket Numbers: ER26-1400-002.

Applicants: PJM Interconnection, L.L.C.

Description: Tariff Amendment: Second Revised GIA, SA No. 7870, Project Identifier AG1-118 to be effective 4/15/2026.

Filed Date: 2/25/26.

Accession Number: 20260225-5164.

Comment Date: 5 p.m. ET 3/18/26.

Docket Numbers: ER26-1491-000.

Applicants: Southwest Power Pool, Inc.

Description: § 205(d) Rate Filing: 1637R6 Kansas Electric Power Cooperative, Inc. NITSA and NOA to be effective 12/1/2025.

Filed Date: 2/25/26.

Accession Number: 20260225-5004.

Comment Date: 5 p.m. ET 3/18/26.

Docket Numbers: ER26-1492-000.

Applicants: PJM Interconnection, L.L.C.

Description: § 205(d) Rate Filing: Amendment to GIA, SA No. 7304; Project Identifier No. AG1-100 to be effective 4/27/2026.

Filed Date: 2/25/26.

Accession Number: 20260225-5021.

Comment Date: 5 p.m. ET 3/18/26.

Docket Numbers: ER26-1493-000.

Applicants: Southwest Power Pool, Inc.

Description: § 205(d) Rate Filing: 1875R10 Kansas Electric Power Cooperative, Inc. NITSA and NOA to be effective 12/1/2025.

Filed Date: 2/25/26.

Accession Number: 20260225-5022.

Comment Date: 5 p.m. ET 3/18/26.

Docket Numbers: ER26-1494-000.

Applicants: Midcontinent Independent System Operator, Inc., Duke Energy Indiana, LLC.

Description: § 205(d) Rate Filing: Duke Energy Indiana, LLC submits tariff filing per 35.13(a)(2)(iii: 2026-02-25_SA 3297 DEI-City of Logansport, Indiana 1st Rev IA to be effective 2/1/2026.

Filed Date: 2/25/26.

Accession Number: 20260225-5024.

Comment Date: 5 p.m. ET 3/18/26.

Docket Numbers: ER26-1495-000.

Applicants: Midcontinent Independent System Operator, Inc., Michigan Electric Transmission Company, LLC.

Description: § 205(d) Rate Filing: Michigan Electric Transmission Company, LLC submits tariff filing per 35.13(a)(2)(iii: 2026-02-25_SA 4690 METC-West Michigan Energy Center E&P (J2567) to be effective 2/24/2026.

Filed Date: 2/25/26.

Accession Number: 20260225-5026.

Comment Date: 5 p.m. ET 3/18/26.

Docket Numbers: ER26-1496-000.

Applicants: Southern Power Company.

Description: Request for Authorization of Affiliate Transactions Notice of Southern Power Company.

Filed Date: 2/23/26.

Accession Number: 20260223-5197.

Comment Date: 5 p.m. ET 3/16/26.

Docket Numbers: ER26-1497-000.

Applicants: Midcontinent Independent System Operator, Inc., Duke Energy Indiana, LLC.

Description: § 205(d) Rate Filing: Duke Energy Indiana, LLC submits tariff filing per 35.13(a)(2)(iii: 2026-02-25_SA 4687 Duke Energy-GridLiance Heartland IA to be effective 2/1/2026.

Filed Date: 2/25/26.

Accession Number: 20260225-5043.

Comment Date: 5 p.m. ET 3/18/26.

Docket Numbers: ER26-1498-000.

Applicants: Midcontinent Independent System Operator, Inc., American Transmission Company LLC.

Description: § 205(d) Rate Filing: American Transmission Company LLC submits tariff filing per 35.13(a)(2)(iii: 2026-02-25_SA 4685 ATC-Dawn Break Solar E&P (J2193) to be effective 4/27/2026.

Filed Date: 2/25/26.

Accession Number: 20260225-5045.

Comment Date: 5 p.m. ET 3/18/26.

Docket Numbers: ER26-1499-000.

Applicants: PacifiCorp.

Description: § 205(d) Rate Filing: Surplus LGIA (Hornshadow Storage 2—SA No. 1199) to be effective 2/26/2026.

Filed Date: 2/25/26.

Accession Number: 20260225-5047.

Comment Date: 5 p.m. ET 3/18/26.

Docket Numbers: ER26-1500-000.

Applicants: Tucson Electric Power Company.

Description: § 205(d) Rate Filing: Order 898 Compliance Filing to be effective 4/27/2026.

Filed Date: 2/25/26.

Accession Number: 20260225-5084.

Comment Date: 5 p.m. ET 3/18/26.

Docket Numbers: ER26-1501-000.

Applicants: PJM Interconnection, L.L.C.

Description: § 205(d) Rate Filing: Original GIA SA No. 7871 & Cancellation of ISA SA No. 6000; AD2-116/AG2-476 to be effective 1/26/2026.

Filed Date: 2/25/26.

Accession Number: 20260225-5085.

Comment Date: 5 p.m. ET 3/18/26.

Docket Numbers: ER26-1502-000.

Applicants: PJM Interconnection, L.L.C.

Description: § 205(d) Rate Filing: Original GIA, Service Agreement No. 7874; Project Identifier No. AG1-226 to be effective 1/26/2026.

Filed Date: 2/25/26.

Accession Number: 20260225-5098.

Comment Date: 5 p.m. ET 3/18/26.

Docket Numbers: ER26-1503-000.

Applicants: Tri-State Generation and Transmission Association, Inc.

Description: § 205(d) Rate Filing: Amendment to Service Agreement FERC No. 864 to be effective 1/27/2026.

Filed Date: 2/25/26.

Accession Number: 20260225-5099.

Comment Date: 5 p.m. ET 3/18/26.

Docket Numbers: ER26-1504-000.

Applicants: Jersey Central Power & Light Company.

Description: § 205(d) Rate Filing: JCPL—Request for Order Authorizing Recovery of Abandoned Plant Costs to be effective 4/27/2026.

Filed Date: 2/25/26.

Accession Number: 20260225-5106.

Comment Date: 5 p.m. ET 3/18/26.

Docket Numbers: ER26-1505-000.

Applicants: Arizona Public Service Company.

Description: Tariff Amendment: Service Agreement No. 405—Notice of Cancellation to be effective 4/27/2026.

Filed Date: 2/25/26.

Accession Number: 20260225-5111.

Comment Date: 5 p.m. ET 3/18/26.

Docket Numbers: ER26-1506-000.

Applicants: San Diego Gas & Electric.

Description: § 205(d) Rate Filing: EDAM, Appendix IV, & Appendix VI Revisions to be effective 5/1/2026.

Filed Date: 2/25/26.

Accession Number: 20260225-5113.

Comment Date: 5 p.m. ET 3/18/26.

Docket Numbers: ER26-1507-000.

Applicants: Arizona Public Service Company.

Description: § 205(d) Rate Filing: Service Agreement No. 428—Amendment No. 1 to be effective 4/27/2026.

Filed Date: 2/25/26.

Accession Number: 20260225-5115.

Comment Date: 5 p.m. ET 3/18/26.

Docket Numbers: ER26-1508-000.

Applicants: PJM Interconnection, L.L.C.

Description: § 205(d) Rate Filing: Original GIA, Service Agreement No. 7873; AE2-224/AF2-050 to be effective 1/26/2026.

Filed Date: 2/25/26.

Accession Number: 20260225-5122.

Comment Date: 5 p.m. ET 3/18/26.

Docket Numbers: ER26-1509-000.

Applicants: Deseret Generation & Transmission Co-operative, Inc.

Description: Compliance filing: Amendment Section 4/Attachment R to be effective 2/26/2026.

Filed Date: 2/25/26.

Accession Number: 20260225-5132.

Comment Date: 5 p.m. ET 3/18/26.

Docket Numbers: ER26-1510-000.

Applicants: PJM Interconnection, L.L.C.

Description: Tariff Amendment: Notice of Cancellation GIA, SA No. 7404 & CSA, SA No. 7405; Project ID AG1-511 to be effective 10/23/2024.

Filed Date: 2/25/26.

Accession Number: 20260225-5148.

Comment Date: 5 p.m. ET 3/18/26.

Docket Numbers: ER26-1511-000.

Applicants: Southwest Power Pool, Inc.

Description: § 205(d) Rate Filing: 4624 Mutual Solar GIA to be effective 2/2/2026.

Filed Date: 2/25/26.

Accession Number: 20260225-5158.

Comment Date: 5 p.m. ET 3/18/26.

Docket Numbers: ER26-1512-000.

Applicants: Southwest Power Pool, Inc.

Description: § 205(d) Rate Filing: 4089R2 Sholes Wind II GIA to be effective 2/3/2026.

Filed Date: 2/25/26.

Accession Number: 20260225-5168.

Comment Date: 5 p.m. ET 3/18/26.

Docket Numbers: ER26-1513-000.

Applicants: Southwest Power Pool, Inc.

Description: § 205(d) Rate Filing: 4629 Buffalo Ridge Wind/WAPA Facilities Construction Agr to be effective 4/27/2026.

Filed Date: 2/25/26.

Accession Number: 20260225-5174.

Comment Date: 5 p.m. ET 3/18/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659. For public inquiries and assistance with making filings such as interventions, comments, or requests for rehearing, contact the Office of Public Participation at (202) 502-6595 or OPP@ferc.gov.

Dated: February 25, 2026.
Debbie-Anne A. Reese,
Secretary.

[FR Doc. 2026-04129 Filed 3-2-26; 8:45 am]

BILLING CODE 6717-01-P